DEPARTMENT OF ENERGY

Federal Energy Regulatory Commission

[Project No. P-10359]

Snoqualmie River Hydro Inc.; Notice of Site Visit

January 13, 2003.

Snoqualmie River Hydro Inc., licensee, for the Youngs Creek Hydroelectric Project (Project), Snonomish County, Washington State, requests to surrender its license. On January 27, 2003, the staff of the Office of Energy Projects (OEP) will conduct a site visit of the Project. Representatives of the licensee will accompany the OEP staff. All interested parties may meet at 2 p.m. at the dam site. Attendees must provide their own transportation.

For further information, please contact Blake Condo at (202) 502-8914 or the Commission's Office of External Affairs at (866) 208-FERC.

Magalie R. Salas,
Secretary.

[FR Doc. 03-1170 Filed 1-16-03; 8:45 am]

BILLING CODE 6717-01-P